DEPARTMENT OF AGRICULTURE

Food and Nutrition Service

Agency Information Collection Activities: Proposed Collection; Comment Request—Special Supplemental Nutrition Program for Women, Infants and Children (WIC) Form: FNS-339, WIC Federal and State Agreement

AGENCY: Food and Nutrition Service (FNS), USDA.

ACTION: Notice.

SUMMARY: In accordance with the Paperwork Reduction Act of 1995, this notice invites the general public and other public agencies to comment on this proposed information collection. The proposed information collection is a request to revise a currently approved collection of information relating to the reporting and recordkeeping burden associated with completing and submitting form FNS-339, the WIC Federal and State Agreement.

DATES: Written comments must be received on or before June 29, 2009.

ADDRESSES: Comments are invited on: (a) Whether the proposed collection of information is necessary for the proper performance of the functions of the agency, including whether the information will have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Debbie Whitford, Acting Director, Supplemental Food Programs Division, Food and Nutrition Service, U.S. Department of Agriculture, 3101 Park Center Drive, Room 520, Alexandria, VA 22302. Comments may also be submitted via fax to the attention of Debbie Whitford, Acting Director, Supplemental Food Programs Division at (703) 305-2196. E-mail: Send comments to WICHQ-SFPD@fns.usda.gov. Include title in the subject line of the message. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 520, Alexandria, Virginia 22302.

All responses to this notice will be summarized and included in the request for Office of Management and Budget approval. All comments will be a matter of public record.

FOR FURTHER INFORMATION CONTACT: Requests for additional information or copies of this information collection should be directed to Patty Davis, Chief, Program Analysis and Monitoring Branch, Supplemental Food Programs Division at (703) 305-2746.

SUPPLEMENTARY INFORMATION:

Title: WIC Federal and State Agreement.

OMB Number: 0584-0332.

Form Number: FNS-339.

Expiration Date: October 31, 2009.

Type of Request: Revision of a currently approved collection.

Abstract: The proposed information collection relates to the reporting and recordkeeping burden associated with completing and submitting form FNS-339, the WIC Federal and State Agreement. The Agreement is the contract between USDA and Special Supplemental Nutrition Program for Women, Infants, and Children (WIC) State agencies, WIC Farmers' Market Nutrition Programs and Senior Farmers' Market Nutrition Programs which authorize the Department to release funds to the States for the administration of the WIC Program in the jurisdiction of the State in accordance with the provisions of 7 CFR part 246.

The Agreement requires the signature of the agency official and includes a certification/assurance regarding drug free workplace, a certification regarding lobbying and a disclosure of lobbying activities.

Public reporting burden for this collection of information is estimated at an average .25 hours per response, including the time for reviewing instructions, researching, and preparing the form.

Affected Public: State, Local and Tribal governments. Respondent Type—The Chief Health Officer of the State agency.

Estimated Number of Respondents: 140.

Estimated Number of Responses per Respondent: One.

Estimated Total Annual Responses: 140.

Estimated Total Annual Burden on Respondents: 35 hours.

Dated: April 23, 2009.
E. Enrique Gomez,
Acting Administrator, Food and Nutrition Service.

[FR Doc. E9-9955 Filed 4-29-09; 8:45 am]

BILLING CODE 3410-30-P